DEPARTMENT OF THE INTERIOR

National Park Service

National Register of Historic Places; Notification of Pending Nominations

Nominations for the following properties being considered for listing in the National Register were received by the National Park Service before May 18, 2002.

Pursuant to § 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service, 800 N. Capitol St., NW., Suite 400, Washington DC 20002; or by fax, 202-343-1836. Written or faxed comments should be submitted by June 18, 2002.

Carol D. Shull,
Keeper of the National Register.

ALASKA

Juneau Borough-Census Area

Pribilof Aleut Internment Historic District, Address Restricted, Juneau, 02000676

CALIFORNIA

Contra Costa County

Forest Home Farms, 19953 San Ramon Valley Blvd., San Ramon, 02000677

Los Angeles County

Ziegler Estate, 4601 N. Figueroa Blvd., Los Angeles, 02000679

COLORADO

Jefferson County

Denver and Rio Grande Western Railroad Caboose No. 0578, 17155 W. 44th Ave., Golden, 02000678

FLORIDA

Jefferson County

Lloyd Historic District (Boundary Decrease), Roughly Main St. N of Bond St. and Bond E of Main, Lloyd, 02000710

Marion County

West Ocala Historic District, Roughly NW 4th St., W. Silver Springs Blvd., NW 12 Ave., Ocala, 02000682

Miami-Dade County

Virginia Key Beach Park, E of Biscayne Bay and N of Rickenbacker Causeway, Miami, 02000681

Pinellas County

Sanitary Public Market, 1825 4th St. N, St. Petersburg, 02000680

INDIANA

Adams County

Lenhart Farmhouse, 6929 N. Piqua Rd., Decatur, 02000688

Carroll County

Delphi Lime Kilns, NNW of Delphi, Delphi, 02000693

Lock No. 33 Lock Keeper's House, and Wabash and Erie Canal Lock No. 33, SW of Delphi, Delphi, 02000684

Sunset Point, SW of Delphi, Delphi, 02000685

Fountain County

Fountain County Clerk's Building, 516 4th St., Covington, 02000692

Marion County

Indianapolis Fire Headquarters and Municipal Garage, 301 E. New York St., and 235 N. Alabama St., Indianapolis, 02000686

Tippecanoe County

Hills and Dales Historic District, Roughly bounded by Northwester Ave., Meridian St., Hillcrest Rd., and Grant St., West Lafayette, 02000689

Vigo County

State Normal Library, 626 Eagle St., Terre Haute, 02000690

Wabash County

North Manchester Historic District, Roughly bounded by Maple, 3rd, and Mill Sts., and N bank of the Eel R., North Manchester, 02000687

Teague Barn Wabash Importing Company Farm Stable, 4568 W. Mill Creek Pike, Wabash, 02000691

KANSAS

Shawnee County

Devon Apartments, 800-808 W. 12th St., Topeka, 02000683

MASSACHUSETTS

Barnstable County

Nye, Elnathan, House, 33 Old Main Rd., Falmouth, 02000697

Essex County

Olmsted Subdivision Historic District, Roughly bounded by New Ocean Paradise Rd., Swampscott Ave., Redington Rd. and Burrill St., Swampscott, 02000696

Salem Common Historic District (Boundary Increase), 3-25 Pleasant St., Salem, 02000694

Worcester County

Fernside—Vacation House for Working Girls, 162 Mountain Rd., Princeton, 02000695

MISSOURI

Cape Girardeau County

Huhn-Harrison House, 340 S. Lorimier St., Cape Girardeau, 02000699

Washington County

Queen, Harrison, House, Hwy C, 1.3 mi. W of MO 21, Caledonia, 02000700

MONTANA

Valley County

First National Bank of Glasgow, 110 Fifth St. S, Glasgow, 02000698

NEVADA

Mineral County

Hawthorne USO Building, 950 E St., Hawthorne, 02000703

NEW JERSEY

Hunterdon County

Reaville Historic District, Old York, Amwell, Barley Sheaf, Kuhl, Manners Rds., East Amwell, 02000709

OHIO

Clermont County

Williams House, 112 Gay St., Williamsburg, 02000704

Cuyahoga County

Euclid Avenue Historic District, Roughly bounded by Public Square, Euclid Ave. to E. 17th St., E. 21st St., Cleveland, 02000702

Delaware County

West Orange Road—Thomas Bridge, OH 114, E of jct. with OH 315, Powell, 02000701

PENNSYLVANIA

Bucks County

Cuttalossa Valley Historic District, Cuttalossa Rd. from Sugan Rd. to the Delaware R., Solebury, 02000705

SOUTH DAKOTA

Buffalo County

Buffalo County Courthouse and Jail House, Old, 100 Main St., Gann Valley, 02000707

Pennington County

Shaw, Glenn W., House, 803 West St., Rapid City, 02000706

VERMONT

Chittenden County

Burlington Breakwater, Burlington Harbor, Burlington, 02000711

WISCONSIN

Marathon County

Rothschild Pavilion, 1104 Park St., Rothschild, 02000708

[FR Doc. 02-13833 Filed 5-31-02; 8:45 am]

BILLING CODE 4310-70-P